FEDERAL RETIREMENT THRIFT INVESTMENT BOARD

5 CFR Parts 1630, 1651, 1653, 1690

Thrift Savings Plan Service Office and ThriftLine Contact Information

AGENCY: Federal Retirement Thrift Investment Board.

ACTION: Proposed rule; Update TSP participant services' contact information.

SUMMARY: The Federal Retirement Thrift Investment Board (Agency) is amending its regulations to update the Thrift Savings Plan's (TSP) participant services' contact information. The mailing addresses for the TSP's benefits processing units (e.g., correspondence, benefits request forms, court orders and legal process actions, death benefit claims) has changed from National Finance Center, P.O. Box 61500, New Orleans, Louisiana 70161-1500 to the current addresses provided at http://www.tsp.gov. (These units were formerly known collectively as the TSP Service Office.) Additionally, the TSP's ThriftLine telephone number has changed from (504) 255-8777 to (877) 968-3778.

DATES: Comments must be received on or before August 14, 2006.

ADDRESSES: Comments may be sent to Thomas K. Emswiler, General Counsel, Federal Retirement Thrift Investment Board, 1250 H Street, NW., Washington, DC 20005. The Agency's Fax number is (202) 942-1676.

FOR FURTHER INFORMATION CONTACT: Megan Graziano on (202) 942-1659.

SUPPLEMENTARY INFORMATION: The Agency administers the TSP, which was established by the Federal Employees' Retirement System Act of 1986 (FERSA), Public Law 99-335, 100 Stat. 514. The TSP provisions of FERSA are codified, as amended, largely at 5 U.S.C. 8351 and 8401-79. The TSP is a tax-deferred retirement savings plan for Federal civilian employees and members of the uniformed services. The TSP is similar to cash or deferred arrangements established for private-sector employees under section 401(k) of the Internal Revenue Code (26 U.S.C. 401(k)).

The Executive Director proposes to amend the Agency's regulations to provide current contact information for the Agency's processing units and ThriftLine. In addition to providing participants with accurate contact information, the proposed language often directs participants to the TSP Web site as opposed to a specific address. Use of the Web site for reference will reduce Agency resources used to update such contact information.

Regulatory Flexibility Act

I certify that these regulations will not have a significant economic impact on a substantial number of small entities. They will affect only employees of the Federal Government.

Paperwork Reduction Act

I certify that these regulations do not require additional reporting under the criteria of the Paperwork Reduction Act.

Unfunded Mandates Reform Act of 1995

Pursuant to the Unfunded Mandates Reform Act of 1995, 2 U.S.C. 602, 632, 653, 1501-1571, the effects of this regulation on state, local, and tribal governments and the private sector have been assessed. This regulation will not compel the expenditure in any one year of $100 million or more by state, local, and tribal governments, in the aggregate, or by the private sector. Therefore, a statement under § 1532 is not required.

Submission to Congress and the General Accounting Office

Pursuant to 5 U.S.C. 810(a)(1)(A), the Agency submitted a report containing this rule and other required information to the U.S. Senate, the U.S. House of Representatives, and the Comptroller General of the United States before publication of this rule in the Federal Register. This rule is not a major rule as defined at 5 U.S.C. 814(2).

List of Subjects

5 CFR Part 1630

Privacy Act regulations.

5 CFR Part 1651

Death benefits.

5 CFR Part 1653

Court Orders and legal processes affecting Thrift Savings Plan accounts.

5 CFR Part 1690

Thrift Savings Plan.

Thomas K. Emswiler,
General Counsel.

For the reasons set forth in the preamble, the Agency proposes to amend 5 CFR chapter VI as follows:

PART 1630—PRIVACY ACT REGULATIONS

1. The authority citation for part 1630 continues to be read as follows:

Authority: 5 U.S.C. 552a.

2. Amend § 1630.4 by revising the third sentence of paragraph (a)(1) and the third sentence of paragraph (a)(2) to read as follows:

§ 1630.4 Request for Notification and access.

(a) * * *

(1) * * * The mailing address of the Thrift Savings Plan is provided at http://www.tsp.gov. * * *

(2) * * * To use the TSP ThriftLine, the participant must have a touch-tone telephone and call the following number (877) 968-3778. * * *

* * * * *

PART 1651—DEATH BENEFITS

3. The authority citation for part 1651 continues to read as follows:

Authority: 5 U.S.C. 8424(d), 8432(j), 8433(e), 8435(c)(2), 8474(b)(5) and 8474(c)(1).

4. Amend § 1651.31 by adding a sentence at the end of the paragraph to read as follows:

§ 1651.13 How to apply for a death benefit.

* * * Please visit http://www.tsp.gov to obtain a copy of this form and for the current mailing address for death benefit applications.

PART 1653—COURT ORDERS AND LEGAL PROCESSES AFFECTING THRIFT SAVINGS PLAN ACCOUNTS

5. The authority citation for part 1653 continues to read as follows:

Authority: 5 U.S.C. 8435, 8436(b), 8437(e), 8439(a)(3), 8467, 8474(b)(5) and 8474(c)(1).

6. Amend § 1653.3 by revising the third sentence of paragraph (b) introductory text to read as follows:

§ 1653.3 Processing retirement benefits court orders.

* * * * *

(b) * * * Retirement benefits court orders should be submitted to the TSP record keeper at the current address as provided at http://www.tsp.gov. * * *

* * * * *

7. Amend § 1653.13 by revising the third sentence of paragraph (b) introductory text to read as follows:

§ 1653.13 Processing legal processes.

* * * * *

(b) * * * Legal processes should be submitted to the TSP record keeper at the current address as provided at http://www.tsp.gov. * * *

* * * * *

PART 1690—THRIFT SAVINGS PLAN

8. The authority citation for part 1690 continues to be read as follows:

Authority: 5 U.S.C. 8474.

9. Amend § 1690.1 by removing the definition of Thrift Savings Plan Service Office or TSPSO and by revising the definition of ThriftLine to read as follows:

§ 1690.1 Definitions.

* * * * *

ThriftLine means the automated voice response system by which TSP participants may, among other things, access their accounts by telephone. The ThriftLine can be reached at (877) 968-3778.

* * * * *

[FR Doc. E6-11064 Filed 7-13-06; 8:45 am]

BILLING CODE 6760-01-P